INTERNATIONAL TRADE COMMISSION

[Investigation Nos. 701-TA-454 and 731-TA-1144 (Final)]

Welded Stainless Steel Pressure Pipe From China

Determination

On the basis of the record ¹ developed in the subject investigations, the United States International Trade Commission (Commission) determines, pursuant to section 705(b) and 735(b) of the Tariff Act of 1930 (19 U.S.C. 1671d(b) and 1673d(b)) (the Act), that an industry in the United States is materially injured by reason of imports from China of welded stainless steel pressure pipe, provided for in subheadings 7306.40.50 and 7306.40.10 of the Harmonized Tariff Schedule of the United States, that have been found by the Department of Commerce (Commerce) to be subsidized by the Government of China and sold in the United States at less than fair value (LTFV).

¹ The record is defined in section 207.2(f) of the Commission's Rules of Practice and Procedure (19 CFR 207.2(f)).

Background

The Commission instituted these investigations effective January 30, 2008, following receipt of a petition filed with the Commission and Commerce by Bristol Metals (Bristol, TN), Felker Brothers Corp. (Marshfield, WI), Marcegaglia USA, Inc. (Munhall, PA), Outokumpu Stainless Pipe, Inc. (Schaumburg, IL), and The United Steel Workers (Pittsburgh, PA).² The final phase of the investigations was scheduled by the Commission following notification of preliminary determinations by Commerce that imports of welded stainless steel pressure pipe from China were being subsidized by the Government of China and being sold at LTFV within the meaning of section 703(b) and 733(b) of the Act (19 U.S.C. 1671b(b) and 1673b(b)). Notice of the scheduling of the final phase of the Commission's investigations and of a public hearing to be held in connection therewith was given by posting copies of the notice in the Office of the Secretary, U.S. International Trade Commission, Washington, DC, and by publishing the notice in the Federal Register of October 6, 2008 (73 FR 58265). The hearing was held in Washington, DC, on January 13, 2009, and all persons who requested the opportunity were permitted to appear in person or by counsel.

² United Steel, Paper and Forestry, Rubber, Manufacturing Energy, Allied Industrial and Service Workers International Union.

The Commission transmitted its determination in these investigations to the Secretary of Commerce on March 11, 2009. The views of the Commission are contained in USITC Publication 4064 (March 2009), entitled Welded Stainless Steel Pressure Pipe from China: Investigation Nos. 701-TA-454 and 731-TA-1144 (Final).

Issued: March 11, 2009.
By order of the Commission.
Marilyn R. Abbott,
Secretary to the Commission.

[FR Doc. E9-5720 Filed 3-16-09; 8:45 am]

BILLING CODE 7020-02-P